FEDERAL COMMUNICATIONS COMMISSION

47 CFR Part 73

[DA 01-2049, MM Docket No. 01-207, RM-10206]

Digital Television Broadcast Service; Alexandria, MN

AGENCY: Federal Communications Commission.

ACTION: Proposed rule.

SUMMARY: The Commission requests comments on a petition filed by KSAX-TV, Inc., licensee of station KSAX(TV), NTSC channel 42, Alexandria, Minnesota, proposing the substitution of DTV channel 36 for station KSAX(TV)'s assigned DTV channel 14. DTV Channel 36 can be allotted to Alexandria, Minnesota, in compliance with the principle community coverage requirements of Section 73.625(a) at reference coordinates (45-41-59 N. and 95-10-35 W.). As requested, we propose to allot DTV Channel 36 to Alexandria with a power of 1000 and a height above average terrain (HAAT) of 340 meters. However, since the community Alexandria is located 400 kilometers from the U.S.-Canadian border, concurrence from the Canadian government must be obtained for this allotment.

DATES: Comments must be filed on or before October 29, 2001, and reply comments on or before November 13, 2001.

ADDRESSES: Federal Communications Commission, 445 12th Street, SW., Room TW-A325, Washington, DC 20554. In addition to filing comments with the FCC, interested parties should serve the petitioner, or its counsel or consultant, as follows: David A. O'Connor, Holland & Knight, LLP, 2099 Pennsylvania Avenue, NW., Suite 100, Washington, DC 20006 (Counsel for KSAX-TV, Inc.).

FOR FURTHER INFORMATION CONTACT: Pam Blumenthal, Mass Media Bureau, (202) 418-1600.

SUPPLEMENTARY INFORMATION: This is a synopsis of the Commission's Notice of Proposed Rule Making, MM Docket No. 01-207, adopted August 30, 2001, and released September 5, 2001. The full text of this document is available for public inspection and copying during regular business hours in the FCC Reference Information Center, Portals II, 445 12th Street, SW., Room CY-A257, Washington, DC, 20554. This document may also be purchased from the Commission's duplicating contractor, Qualex International, Portals II, 445 12th Street, SW., Room CY-B402, Washington, DC, 20554, telephone 202-863-2893, facsimile 202-863-2898, or via-e-mail qualexint@aol.com.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Television, Digital television broadcasting.

For the reasons discussed in the preamble, the Federal Communications Commission proposes to amend 47 CFR part 73 as follows:

PART 73—TELEVISION BROADCAST SERVICES

1. The authority citation for part 73 continues to read as follows:

Authority: 47 U.S.C. 154, 303, 334, and 336.

§ 73.622 [Amended]

2. Section 73.622(b), the Table of Digital Television Allotments under Minnesota is amended by removing DTV Channel 14 and adding DTV Channel 36 at Alexandria.

Federal Communications Commission.
Barbara A. Kreisman,
Chief, Video Services Division, Mass Media Bureau.

[FR Doc. 01-23055 Filed 9-13-01; 8:45 am]

BILLING CODE 6712-01-P